DEPARTMENT OF ENERGY

Federal Energy Regulatory Commission

[Project No. 13536-000]

Lock + TM Hydro Friends Fund XXV, LLC; Notice of Preliminary Permit Application Accepted for Filing and Soliciting Comments, Motions To Intervene, and Competing Applications

September 4, 2009.

On July 6, 2009, Lock + TM Hydro Friends Fund XXV, LLC, filed an application, pursuant to section 4(f) of the Federal Power Act, proposing to study the feasibility of the Grim Reaper Hydroelectric Project, to be located on the Fox River, in Outagamie County, Wisconsin.

The proposed Grim Reaper Project would be located at the U.S. Army Corps of Engineers Fox River Upper Appleton Dam in Appleton, Wisconsin.

The proposed project would consist of: (1) One new underwater frame module containing nine turbines with a total installed capacity of about 4.73 megawatts which would be installed in a new concrete conduit located adjacent to the Corps' active lock; (2) a new removable lock door; (3) a new switchyard, transformer, and control room which would be located on the west side of the Corps' Upper Appleton Dam; (4) a new 1500-foot-long, 36.7 kilovolt transmission line, which would deliver power from the turbines to an existing transformer tie-in bus located at the Corps' lock and dam facilities; and (5) appurtenant facilities. The Grim Reaper Project would have an estimated average annual generation of about 37,278 megawatts-hours, which would be sold to a local utility.

Applicant Contact: Mr. Wayne F. Krouse, Managing Partner, Lock+ Hydro Friends Fund XXV, 5090 Richmond Avenue #390, Houston, TX 77056, 877-556-6566 x709, wayne@hgenergy.com.

FERC Contact: John Ramer, (202) 502-8969.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13536) in the docket number field to access the document. For assistance, call toll-free 1-866-208-3372.

Kimberly D. Bose,
Secretary.

[FR Doc. E9-22096 Filed 9-14-09; 8:45 am]

BILLING CODE 6717-01-P